DEPARTMENT OF HOMELAND SECURITY

[Docket No. DHS-2024-0039]

Notice of Meeting; Homeland Security Advisory Council

AGENCY: Office of Partnership and Engagement (OPE), Department of Homeland Security (DHS).

ACTION: Notice of closed Federal advisory committee meeting.

SUMMARY: OPE is publishing this notice of a meeting of the Homeland Security Advisory Council (HSAC). This meeting will discuss security related threats and DHS operations post-election.

DATES: The meeting will be Monday, December 9, 2024, from 3 p.m. eastern time (ET) to 4 p.m. ET. This meeting will be closed to the public.

Written comments must be submitted by 5 p.m. ET on Friday, December 6, 2024.

ADDRESSES: Comments must be identified by Docket No. DHS-2024-0039 and may be submitted by one of the following methods:

Federal eRulemaking Portal: https://www.regulations.gov. Follow the instructions for submitting comments.

Email: HSAC@hq.dhs.gov. Include Docket No. DHS-2024-0039 in the subject line of the message.

Mail: Rebecca Sternhell, Designated Federal Officer of the Homeland Security Advisory Council, Office of Partnership and Engagement, Mailstop 0385, Department of Homeland Security, 2707 Martin Luther King Jr. Ave. SE, Washington, DC 20032.

Instructions: All submissions received must include the words “Department of Homeland Security” and “DHS-2024-039”, the docket number for this action. Comments received will be posted without alteration at https://www.regulations.gov, including any personal information provided. You may wish to review the Privacy and Security Notice found via a link on the homepage of www.regulations.gov.

Docket: For access to the docket to read comments received by the Council, go to http://www.regulations.gov, search “DHS-2024- 0039,” “Open Docket Folder” to view the comments.

FOR FURTHER INFORMATION CONTACT: Rebecca Sternhell, Designated Federal Officer, HSAC at 202-891-2876 or HSAC@hq.dhs.gov.

SUPPLEMENTARY INFORMATION: Notice of this meeting is given under section 10(a) of the Federal Advisory Committee Act (FACA), Public Law 92-463 (5 U.S.C. ch. 10), which requires each FACA committee meeting to be open to the public unless the President, or the head of the agency to which the advisory committee reports, determines that a portion of the meeting may be closed to the public in accordance with 5 U.S.C. 552b(c).

The HSAC provides organizationally independent, strategic, timely, specific, actionable advice, and recommendations to the Secretary of Homeland Security on matters related to homeland security. The Council consists of senior executives from government, the private sector, academia, law enforcement, and non-governmental organizations.

The Council will meet in a closed session from 3 p.m. to 4 p.m. ET to participate in a sensitive discussion with DHS senior leaders regarding DHS operations.

Basis for Closure: In accordance with section 10(d) of FACA, the Secretary of Homeland Security has determined this meeting must be closed during this session as the disclosure of the information relayed would be detrimental to the public interest for the following reasons:

The Council will participate in a sensitive operational discussion containing For Official Use Only and Law Enforcement Sensitive information. This discussion will include information regarding threats facing the United States and how DHS plans to address those threats. The session is closed pursuant to 5 U.S.C. 552b(c)(9)(B) because the disclosure of this information is likely to significantly frustrate implementation of proposed agency actions.

Dated: November 21, 2024.
Rebecca Sternhell,
Designated Federal Officer, Homeland Security Advisory Council, Department of Homeland Security.

[FR Doc. 2024-27682 Filed 11-25-24; 8:45 am]

BILLING CODE 9112-FN-P